SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before May 4, 2009.

ADDRESSES: Send all comments regarding whether this information collection is necessary for the proper performance of the function of the agency, whether the burden estimates are accurate, and if there are ways to minimize the estimated burden and enhance the quality of the collection, to Sandra Johnston, Program Analyst, Office of Financial Assistance, Small Business Administration, 409 3rd Street, 8th Floor, Washington, DC 20416.

FOR FURTHER INFORMATION CONTACT: Sandra Johnston, Program Analyst, Office of Financial Assistance, 202-205-7528, sandra.johnston@sba.gov Curtis B. Rich, Management Analyst, 202-205-7030, curtis.rich@sba.gov.

SUPPLEMENTARY INFORMATION: SBA collects this information from lenders who participate in the secondary market program. The information is used to facilitate and administer secondary market transactions in accordance with 15 U.S.C. 634(f)(3) and to monitor the program for compliance with 15 U.S.C.

Title: “Secondary Participation Guaranty Agreement”.

Description of Respondents: SBA Participating Lenders.

Form Number's: 1086, 1502.

Annual Responses: 530.

Annual Burden: 42,000.

Jacqueline White,
Chief, Administrative Information Branch.

[FR Doc. E9-4607 Filed 3-3-09; 8:45 am]

BILLING CODE 8025-01-P